NUCLEAR REGULATORY COMMISSION

[NRC-2019-0001]

Sunshine Act Meetings

TIME AND DATE: Weeks of March 11, 18, 25, April 1, 8, 15, 2019.

PLACE: Commissioners' Conference Room, 11555 Rockville Pike, Rockville, Maryland.

STATUS: Public and Closed.

MATTERS TO BE CONSIDERED:

Week of March 11, 2019

Monday, March 11, 2019

3:35 p.m. Affirmation Session (Public Meeting) (Tentative)

a. Diversified Scientific Services, Inc. (Export of Low-Level Waste) (Petition Seeking Leave to Intervene and Request for Hearing) (Tentative)

b. Interim Storage Partners LLC (WCS Consolidated Interim Storage Facility), LBP-18-6 (Referred Ruling Denying Motion to Disqualify Board) (Tentative)

c. Entergy Nuclear Vermont Yankee, LLC, and Entergy Nuclear Operations, Inc. (Tentative)

Week of March 18, 2019—Tentative

Wednesday, March 20, 2019

10:00 a.m. Meeting with the Organization of Agreement States and the Conference of Radiation Control Program Directors (Public) (Contact: Paul Michalak: 301-415-5804)

This meeting will be webcast live at the Web address— http://www.nrc.gov/.

Week of March 25, 2019—Tentative

Thursday, March 28, 2019

9:00 a.m. Transformation at the NRC: Innovation (Public Meeting) (Contact: June Cai: 301-415-1771)

This meeting will be webcast live at the Web address— http://www.nrc.gov/.

Week of April 1, 2019—Tentative

Thursday, April 4, 2019

10:00 a.m. Meeting with the Advisory Committee on the Medical Uses of Isotopes (Public Meeting) (Contact: Kellee Jamerson: 301-415-7408)

This meeting will be webcast live at the Web address— http://www.nrc.gov/.

Week of April 8, 2019—Tentative

There are no meetings scheduled for the week of April 8, 2019.

Week of April 15, 2019—Tentative

There are no meetings scheduled for the week of April 15, 2019.

ADDITIONAL INFORMATION: By a vote of 5-0 on March 5, 2019, the Commission determined pursuant to U.S.C. 552b(e) and '9.107(a) of the Commission's rules that the above referenced Affirmation Session be held with less than one week notice to the public. The meeting is scheduled on March 11, 2019.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov.

Dated at Rockville, Maryland, this 6th day of March, 2019.
For the Nuclear Regulatory Commission.
Denise L. McGovern,
Policy Coordinator, Office of the Secretary.

[FR Doc. 2019-04480 Filed 3-7-19; 4:15 pm]

BILLING CODE 7590-01-P